DEPARTMENT OF STATE

[Public Notice 6022]

U.S. National Commission for UNESCO Notice of Open Advisory Committee Teleconference Meeting

Summary: The U.S. National Commission for UNESCO will meet via telephone conference on Friday, February 1, 2008, from 11 a.m. until 12 p.m. Eastern Time. The purpose of the teleconference meeting is to consider the recommendations of the Commission's National Committee for the International Hydrological Program (IHP). The U.S. National Committee for the IHP was asked to provide recommendations to the Commission on proposals received to establish a U.S. water-related UNESCO Category II Center. (For more information see http://www.state.gov/p/io/unesco/c21083.htm). The call will also be an opportunity to provide an update on recent and upcoming Commission and UNESCO activities. The Commission will accept brief oral comments during a portion of this conference call. This public comment period will last 15 minutes, and comments are limited to two minutes per person. Members of the public who wish to present oral comments or to listen to the conference call must make arrangements with the Executive Secretariat of the National Commission by January 30, 2008. For more information or to arrange to participate in the teleconference meeting, contact Alex Zemek, Deputy Executive Director of the U.S. National Commission for UNESCO, Washington, DC 20037. Telephone: (202) 663-0026; Fax: (202) 663-0035; E-mail: DCUNESCO@state.gov.

Dated: January 15, 2008.
Susanna Connaughton,
U.S. National Commission for UNESCO, Department of State.

[FR Doc. E8-1002 Filed 1-18-08; 8:45 am]

BILLING CODE 4710-19-P